DEPARTMENT OF JUSTICE

Antitrust Division

Notice Pursuant to the National Cooperative Research and Production Act of 1993—Flexible Display Center at Arizona State University

Notice is hereby given that, on June 17, 2005, pursuant to Section 6(a) of the National Cooperative Research and Production Act of 1993, 15 U.S.C. 4301 et seq. (“the Act”), Flexible Display Center at Arizona State University (“Center”) has filed written notifications simultaneously with the Attorney General and the Federal Trade Commission disclosing changes in its membership. The notifications were filed for the purpose of extending the Act's provisions limiting the recovery of antitrust plaintiffs to actual damages under specified circumstances. Specifically, General Dynamics Corporation, Falls Church, VA; Raytheon Company, Waltham, MA; and Surface Science Integration, Inc., Paradise Valley, AZ have been added as parties to this venture.

No other changes have been made in either the membership or planned activity of the group research project. Membership in this group research project remains open, and Center intends to file additional written notification disclosing all changes in membership.

On March 3, 2005, Center filed its original notification pursuant to Section 6(a) of the Act. The Department of Justice published a notice in the Federal Register pursuant to Section 6(b) of the Act on March 25, 2005 (70 FR 15350).

Dorothy B. Fountain,
Deputy Director of Operations, Antitrust Division.

[FR Doc. 05-13728 Filed 7-12-05; 8:45 am]

BILLING CODE 4410-11—M